DEPARTMENT OF HEALTH AND HUMAN SERVICES

Health Resources and Services Administration

Maternal and Child Health Research Grants Review Committee; Notice of Meeting

In accordance with section 10(a)(2) of the Federal Advisory Committee Act (Pub. L. 92-463), notice is hereby given of the following meeting:

Name: Maternal and Child Health Research Grants Review Committee.

Dates and Times: June 15 , 2004, 8:30 a.m. to 9:30 a.m.—open, June 15, 2004, 9:30 a.m. to 5 p.m.—closed, June 16, 2004, 8:30 a.m. to 5 p.m.—closed, June 17, 2004, 8:30 a.m. to 5 p.m.—closed.

Place: Hilton Garden Inn, 815 14th Street, NW., Washington, DC 20005.

Status: The meeting will be open to the public on Tuesday, June 15, 2004, from 8:30 a.m. to 9:30 a.m. The remainder of the meeting will be closed to the public in accordance with provisions set forth in section 552b(c)(6), title 5 U.S.C., and the Determination of the Acting Deputy Associate Administrator for Management and Program Support, Health Resources and Services Administration (HRSA), pursuant to section 10(d) of the Federal Advisory Committee Act (Pub. L. 92-463).

Purpose: To review research grant applications in the program areas of maternal and child health, administered by HRSA's Maternal and Child Health Bureau (MCHB).

Agenda: The open portion of the meeting will cover opening remarks by the Director, Division of Research, Training and Education, MCHB, HRSA, who will report on program issues, congressional activities, and other topics of interest to the field of maternal and child health. The closed portion of the meeting will involve the review, discussion, and evaluation of grant applications containing information of a personal nature, the disclosure of which would constitute a clearly unwarranted invasion of personal privacy.

For further information contact: Anyone wishing to obtain a roster of members, minutes of meetings, or other relevant information should write or contact Stella Yu, Sc.D., M.P.H., Executive Secretary, Maternal and Child Health Research Grants Review Committee, Room 18A-55, Parklawn Building, 5600 Fishers Lane, Rockville, Maryland 20857, Telephone (301) 443-0695.

Dated: May 19, 2004.
Tina M. Cheatham,
Director, Division of Policy Review and Coordination.

[FR Doc. 04-11829 Filed 5-25-04; 8:45 am]

BILLING CODE 4165-15-P